DEPARTMENT OF ENERGY

Federal Energy Regulatory Commission

[Docket No. CP07-451-000 ]

Black Bayou Storage, LLC; Notice of Field Trip for the Proposed Black Bayou Gas Storage Project

October 25, 2007.

The staff of the Federal Energy Regulatory Commission (Commission) will conduct a field trip for the Black Bayou Gas Storage Project involving construction and operation of facilities by Black Bayou Storage, LLC in Cameron Parrish and Calcasieu Parrish, Louisiana.

The Commission staff will conduct a field trip of storage caverns, portions of the pipeline, and related facilities on November 7, 2007. Anyone interested in participating in the field trip may attend, and they must provide their own transportation. The staff will start the field trip on Wednesday, November 7 at approximately 7:30 a.m. (CST). The staff will conduct a tour by marsh buggy at about 11:15 a.m., and then tour the facilities by helicopter at about 2 p.m. Only Commission staff and company representatives will be able to use the marsh buggy and helicopter. The Commission staff, company representatives, and interested participants will meet in the parking lot at the following location: Brown's Food Center, 620 Main St., Hackberry, LA 70645, Telephone: (337) 762-4632.

Kimberly D. Bose,
Secretary.

[FR Doc. E7-21480 Filed 10-31-07; 8:45 am]

BILLING CODE 6717-01-P